DEPARTMENT OF TRANSPORTATION

Federal Transit Administration

[Docket Number: FTA-2008-0054]

Notice of Availability of Guidance on the Application of 49 U.S.C. 5324(c), Railroad Corridor Preservation, and Request for Comments

AGENCY: Federal Transit Administration (FTA), DOT.

ACTION: Notice of availability; request for comments.

SUMMARY: This notice by the Federal Transit Administration (FTA) announces the availability of proposed guidance on the application of a provision of the Safe, Accountable, Flexible, Efficient Transportation Equity Act: A Legacy for Users (SAFETEA-LU) concerning the acquisition of railroad right-of-way for transit projects. The guidance explains FTA's interpretation of the provision, which allows the acquisition of pre-existing railroad right-of-way, under certain conditions, before the completion of the environmental review for a transit project that would use the right-of-way. FTA requests comments on this guidance, which is available on the U.S. Government electronic docket site and on the FTA Web site.

DATES: Comments must be received by January 21, 2009. Comments filed after the deadline will be considered to the extent practicable.

ADDRESSES: You must include the agency name (Federal Transit Administration) and the docket number (FTA-2008-0054) with your comments. To ensure your comments are not entered into the docket more than once, please submit comments, identified by the docket number [FTA-2008-0054], by only one of the following methods:

1. Web site: The U.S. Government electronic docket site is http://www.regulations.gov. Go to this Web site and follow the instructions for submitting comments into docket number FTA-2008-0054.

2. Fax: Telefax comments to (202) 493-2251.

3. Mail: Mail your comments to U.S. Department of Transportation, 1200 New Jersey Avenue SE., Docket Operations, M-30, Room W12-140, Washington, DC 20590.

4. Hand Delivery: Bring your comments to the U.S. Department of Transportation, 1200 New Jersey Avenue SE., Docket Operations, M-30, West Building, Ground Floor, Room W12-140, Washington, DC 20590 between 9 a.m. and 5 p.m., Monday through Friday, except Federal holidays.

FOR FURTHER INFORMATION CONTACT: Joseph Ossi, Office of Planning and Environment (TPE-30), 202-366-1613, or Christopher VanWyk, Office of Chief Counsel (TCC-30), 202-366-1733, Federal Transit Administration, U.S. Department of Transportation, 1200 New Jersey Avenue SE., Washington, DC 20590.

SUPPLEMENTARY INFORMATION: Section 3024 of the Safe, Accountable, Flexible, Efficient Transportation Equity Act: A Legacy for Users (SAFETEA-LU) added a new provision at 49 U.S.C. 5324(c) that allows a grant applicant, under conditions that may be specified by the Secretary of Transportation, to acquire existing railroad right-of-way prior to the completion of the environmental review of the transportation project(s) that will eventually use that right-of-way. Under authority delegated by the Secretary, FTA has developed proposed guidance that would (1) specify the conditions under which this provision may be used and (2) give guidance on applying that provision to specific situations. We request your comments on the guidance, which is available in the U.S. Government's electronic docket site at http://www.regulations.gov under docket number FTA-2008-0054 and on the FTA Web site at http://www.fta.dot.gov under “Planning and Environment.” FTA will respond to comments received on this Notice in a second Federal Register notice to be published after the close of the comment period. That second notice is expected to announce the availability of final guidance that reflects the changes implemented as a result of comments received.

Issued on: December 16, 2008.
Sherry E. Little,
Acting Administrator.

[FR Doc. E8-30372 Filed 12-19-08; 8:45 am]

BILLING CODE 4910-57-P